DEPARTMENT OF DEFENSE

Department of the Army, Corps of Engineers

Notice of Intent To Adopt U.S. Bureau of Reclamation's December 2015 Final Environmental Impact Report/Environmental Impact Statement/Environmental Impact Statement, Prepare Corps Record of Decision, and Reimburse the Sponsor for the Upper Truckee River and Marsh Restoration Project, City of South Lake Tahoe, El Dorado County, CA

AGENCY: Department of the Army, U.S. Army Corps of Engineers, DoD.

ACTION: Notice of intent.

SUMMARY: The U.S. Army Corps of Engineers (Corps), Sacramento District, intends to adopt the Bureau of Reclamation's (BOR) December 2015 Final Environment Impact Report (FEIR)/Final Environmental Impact Statement (FEIS)/Final Environmental Impact Statement (FEIS) for the Upper Truckee River and Marsh Restoration Project and prepare its own Record of Decision (ROD) after the public review period for this Notice of Intent ends. The Corps will use its Tahoe Section 108 program authorization for participation in the restoration activities by reimbursing the California Tahoe Conservancy (CTC), the local sponsor, for final design, construction, and other applicable activities falling under the authorization. During final design and construction, the Corps will serve as the lead Federal agency for compliance with the National Environmental Policy Act (NEPA), and CTC will serve as the lead agency for compliance with the California Environmental Quality Act (CEQA) during the final design and construction activities if designs need to be modified or the river moves from its current alignment prior to design and construction. In the December 2015 Final EIR/EIS/EIS, the analysis for this ecosystem restoration project evaluated five alternatives to restore aquatic and riparian values and functions on the Upper Truckee River's marsh area near its terminus at Lake Tahoe, South Lake Tahoe in El Dorado County, CA with selection of a preferred alternative to be constructed. The Corps has reviewed the draft and Final EIR/EIS/EIS to ensure that all NEPA requirements have been met.

DATES: Written comments regarding the scope of the Corps adoption of the BOR's FEIR/FEIS/FEIS, preparation of the Corps ROD, and reimbursement to CTC should be received by the Corps on or before July 30, 2018.

ADDRESSES: Send written comments and suggestions to Mr. Mario Parker, Biological Sciences Study Manager, U.S. Army Corps of Engineers, Sacramento District, 1325 J Street, Sacramento, CA 95814, or email him at mario.g.parker@usace.army.mil, or telephone (916) 557-6701, or fax (916) 557-7856.

SUPPLEMENTARY INFORMATION: 1. Proposed Action. The Corps in cooperation with the non-Federal sponsor, the CTC, proposes to adopt the BOR's December 2015 FEIR/FEIS/FEIS, prepare its own ROD, and reimburse CTC on the final design and construction of the restoration features at the Upper Truckee River and Marsh Restoration Project in South Lake Tahoe, in Eldorado County, CA. Reimbursement for the construction of the ecosystem restoration project is authorized by the Tahoe 108 program authority, which is Section 108 of the Energy and Water Development Appropriations Act, 2005 (Division C of the Consolidated Appropriations Act, Pub. L. 108-447). The relevant authority from the 2005 Consolidated Appropriations Act excerpted is stated below:

Sec. 108. Lake Tahoe Basin Restoration, Nevada and California. (a) Definition.—In this section, the term “Lake Tahoe Basin” means the entire watershed drainage of Lake Tahoe including that portion of the Truckee River 1,000 feet downstream from the United States Bureau of Reclamation dam in Tahoe City, California.

(b) Establishment of Program.—The Secretary [of the Army] may establish a program for providing environmental assistance to non-Federal interests in Lake Tahoe Basin.

(c) Form of Assistance.—Assistance under this section may be in the form of planning, design, and construction assistance for water-related environmental infrastructure and resource protection and development projects in Lake Tahoe Basin, which could include the following:

(1) Urban stormwater conveyance, treatment and related facilities;

(2) watershed planning, science and research;

(3) environmental restoration; and

(4) surface water resource protection and development.

(d) Public Ownership Requirement.—The Secretary [of the Army] may provide assistance for a project under this section only if the project is publicly owned.

(e) Local Cooperation Agreement.—(1) In general.—Before providing assistance under this section, the Secretary shall enter into a local cooperation agreement with a non-Federal interest to provide for design and construction of the project to be carried out with the assistance.

(2) Requirements.—Each local cooperation agreement entered into under this subsection shall provide for the following:

(A) Plan.—Development by the Secretary [of the Army], in consultation with appropriate Federal and State and Regional officials, of appropriate environmental documentation, engineering plans and specifications.

(B) Legal and institutional structures.—Establishment of such legal and institutional structures as are necessary to ensure the effective long-term operation of the project by the non-Federal interest.

(3) Cost sharing.—

(A) In general.—The Federal share of project costs under each local cooperation agreement entered into under this subsection shall be 75 percent. The Federal share may be in the form of grants or reimbursements of project costs.

(B) Credit for design work.—The non-Federal interest shall receive credit for the reasonable costs of planning and design work completed by the non-Federal interest before entering into a local cooperation agreement with the Secretary for a project.

(C) Land, easements, rights-of-way, and relocations.—The non-Federal interest shall receive credit for land, easements, rights-of-way, and relocations provided by the non-Federal interest toward the non-Federal share of project costs (including all reasonable costs associated with obtaining permits necessary for the construction, operation, and maintenance of the project on publicly owned or controlled land), but not to exceed 25 percent of total project costs.

(D) Operation and maintenance.—The non-Federal share of operation and maintenance costs for projects constructed with assistance provided under this section shall be 100 percent.

(F) Applicability of Other Federal and State Laws.—Nothing in this section waives, limits, or otherwise affects the applicability of any provision of Federal or State law that would otherwise apply to a project to be carried out with assistance provided under this section.

(G) Authorization of Appropriations.—There is authorized to be appropriated to carry out this section for the period beginning with fiscal year 2005, $25,000,000, to remain available until expended.

2. Alternatives. The study's Draft 2013 EIR/EIS/EIS evaluated five ecosystem restoration alternatives and selected Alternative 3, the Middle Marsh Corridor (Moderate Recreation Infrastructure), for the restoration element and recreation element of the west side of the Upper Truckee Marsh, as well as Alternative 5 (No Project) for the recreation element of the east side of the Upper Truckee Marsh, as the preferred alternative because it was considered the most environmentally superior, cost-effective, feasible, responsive to public comments, and resilient to potential impacts of climate change.

The selected alternative proposes the most geomorphically appropriate channel configuration, allowing the pilot channel to strategically connect the current river alignment to historic channels and lagoons. The river would form its own pattern and spread over the expanse of the marsh, resulting in substantial benefits to habitats, wildlife, and long-term water quality. However, the preferred alternative could have a long-term, and significant unavoidable impact to fish passage through the project area during low flow periods if channel disconnectivity occurs.

The selected alternative also includes restoration of a portion of a marina, removal of fill placed during development to restore wet meadow, stabilization of streambanks, modification and/or relocation of two existing stormwater discharge locations, and restoration of sand ridges that were graded and leveled. The selected alternative would provide a moderate level of recreation infrastructure along the west side of the Upper Truckee Marsh that would include a modified American with Disabilities Act (ADA)-accessible pedestrian trail to Cove East Beach, viewpoints, and signage.

The preferred alternative would have short-term and interim impacts on water quality from increased turbidity and would have short-term impacts to sensitive habitats and wildlife during construction. It would also have short-term and interim impacts on water quality that could not be avoided because of the strict turbidity criteria used to determine a significant and unavoidable impact and to sensitive habitats and wildlife.

In compliance with NEPA and CEQA, a combination of best management practices and conservation measures would be used and included in the designs to avoid, reduce, and minimize any significant adverse effects on environmental resources that were identified in the December 2015 FEIR/FEIS/FEIS while meeting requirements for various Federal, State, and local statutes. The project is being designed to restore ecosystem values and riparian and fluvial functions that benefit many seasonal and resident fish and wildlife populations including Federally listed species such as the Lahontan cutthroat trout and species of concern such as willow flycatcher and Tahoe yellow-cress.

3. Scoping Process.

A. Two public scoping meetings were held on February 27, 2015, at the Inn by the Lake and on March 28, 2015, at the Lake Tahoe Community College Board Room in South Lake Tahoe, CA.

B. CTC will obtain all Federal, State, TRPA, and all other local permits prior to construction.

C. A 30-day review period will be allowed for all interested agencies and individuals to review and comment on the Corps' intention to adopt the BOR's December 2015 FEIR/FEIS/FEIS, preparation of its own ROD, and reimbursement for design and construction of the restoration project. All interested persons are encouraged to respond to this notice and provide a current address if they wish to be contacted about the adoption and reimbursement for construction activities associated with this ecosystem restoration project.

D. In compliance with the Council of Environmental Quality regulations [46 FR 18026] and [40 CFR 1506.3(b)], the BOR's December 2015 Final EIR/EIS/EIS document is recirculated and can be viewed in a link on the Corps website. This environmental document is being re-circulated for procedural purposes. The selected plan remains a combination of Alternative 3, the Middle Marsh Corridor (Moderate Recreation Infrastructure), and Alternative 5 (No Project), as described in detail in the environmental document as the preferred plan. This Notice of Intent informs the reader on what the proposed Federal action is and complies with the National Environmental Policy Act, by allowing the public to provide comments on the Corps intention to adopt the BOR's December 2015 FEIR/FEIS/FEIS, preparation of the Record of Decision, and to reimburse CTC for those activities falling under the Tahoe Section 108 authority.

4. Availability. The Corps is publishing this Notice of Intent for 30-day public review and comment beginning on June 29, 2018. To view the BOR's draft and final environmental documents, go to this web address: http://www.spk.usace.army.mil/Media/USACE-Project-Public-Notices/. No supplemental environmental documents for review are anticipated.

Dated: June 14, 2018.
David G. Ray,
Colonel, U.S. Army, District Commander.

[FR Doc. 2018-13670 Filed 6-28-18; 8:45 am]

BILLING CODE 3720-58-P